DEPARTMENT OF COMMERCE

Bureau of Economic Analysis

15 CFR Part 806

[Docket No. 100217100-0362-01]

RIN 0691-AA74

Direct Investment Surveys: BE-11, Annual Survey of U.S. Direct Investment Abroad

AGENCY: Bureau of Economic Analysis, Commerce.

ACTION: Notice of proposed rulemaking.

SUMMARY: This proposed rule would amend regulations of the Department of Commerce's Bureau of Economic Analysis (BEA) to set forth the reporting requirements for the BE-11, Annual Survey of U.S. Direct Investment Abroad. The survey is conducted annually and is a sample survey that obtains financial and operating data covering the overall operations of U.S. parent companies and their foreign affiliates. BEA proposes to amend the BE-11 forms and instructions to bring them into conformity with the 2009 BE-10, Benchmark Survey of U.S. Direct Investment Abroad. These amendments include changes in form design and reporting thresholds, as well as changes in the data items collected. The proposed changes also include a change in the reporting criteria for foreign affiliates with U.S. Parent (U.S. Reporter) ownership between 10 and 20 percent.

DATES: Comments on this proposed rule will receive consideration if submitted in writing on or before 5 p.m. November 19, 2010.

ADDRESSES: You may submit comments, identified by RIN 0691-AA74, and referencing the agency name (Bureau of Economic Analysis), by any of the following methods:

• Federal eRulemaking Portal: http://www.regulations.gov. Follow the instructions for submitting comments. For Keyword or ID, enter “EAB-2010-0002.”

• E-mail: David.Galler@bea.gov.

• Fax: Office of the Chief, Direct Investment Division, (202) 606-5318.

• Mail: Office of the Chief, Direct Investment Division, U.S. Department of Commerce, Bureau of Economic Analysis, BE-50, Washington, DC 20230.

• Hand Delivery/Courier: Office of the Chief, Direct Investment Division, U.S. Department of Commerce, Bureau of Economic Analysis, BE-50, Shipping and Receiving, Section M100, 1441 L Street, NW., Washington, DC 20005.

Written comments regarding the burden-hour estimates or other aspects of the collection-of-information requirements contained in the proposed rule should be sent to both BEA through any of the methods above, and to the Office of Management and Budget (OMB), O.I.R.A., Paperwork Reduction Project 0608-0053, Attention PRA Desk Officer for BEA, via e-mail at pbugg@omb.eop.gov, or by FAX at 202-395-7245.

Public Inspection: All comments received are a part of the public record and will generally be posted to http://www.regulations.gov without change. All personal identifying information (for example, name, address, etc.) voluntarily submitted by the commentator may be publicly accessible. Do not submit confidential business information or otherwise sensitive or protected information. BEA will accept anonymous comments (enter N/A in required fields if you wish to remain anonymous). Attachments to electronic comments will be accepted in Microsoft Word, Excel, WordPerfect, or Adobe portable document file (pdf) formats only.

FOR FURTHER INFORMATION CONTACT: David H. Galler, Chief, Direct Investment Division (BE-50), Bureau of Economic Analysis, U.S. Department of Commerce, Washington, DC 20230; phone (202) 606-9835.

SUPPLEMENTARY INFORMATION: In Section 3 of Executive Order 11961, as amended by Executive Orders 12318 and 12518, the President delegated the responsibility for performing functions under the Act concerning direct investment to the Secretary of Commerce, who has redelegated it to BEA. The BE-11 survey of U.S. direct investment abroad is a mandatory annual survey conducted by BEA under the International Investment and Trade in Services Survey Act, 22 U.S.C. 3101-3108 (the Act).

The survey is a sample survey that collects information on a variety of measures of the overall operations of U.S. parent companies and their foreign affiliates, including total assets, sales, net income, employment and employee compensation, research and development expenditures, and exports and imports of goods. The sample data are used to derive universe estimates in nonbenchmark years from similar data reported in the BE-10, Benchmark Survey of U.S. Direct Investment Abroad, which is taken every five years. The data are needed to measure the size and economic significance of direct investment abroad, to measure the changes in such investment, and to assess their impact on the U.S. and foreign economies. The data are disaggregated by country and industry of the foreign affiliate and by industry of the U.S. parent. BEA sends survey forms to potential respondents in March of each year; responses are due by May 31.

This proposed rule would amend 15 CFR 806.14 to set forth the reporting requirements for the BE-11, Annual Survey of U.S. Direct Investment Abroad. The Department of Commerce, as part of its continuing effort to reduce paperwork and respondent burden, invites the general public and other Federal agencies to comment on proposed and/or continuing information collections, as required by the Paperwork Reduction Act of 1995, 44 U.S.C. 3501-3520 (PRA).

Description of Changes

The proposed changes revise the regulations for the BE-11 survey and bring the BE-11 forms and instructions into conformity with the 2009 BE-10, Benchmark Survey of U.S. Direct Investment Abroad. These amendments include changes in reporting thresholds and data items collected, as well as changes in form design. Several of these amendments are part of a larger program to align the data collection program for multinationals with available resources. BEA is also proposing to expand the use of sampling to help align the data collection program with resources.

Beginning with the 2010 annual survey, if this proposed rule is made final, U.S. Reporters would report data on all their foreign affiliates, regardless of industry, on one of four foreign affiliate forms—BE-11B, BE-11C, BE-11D, or BE-11E. Data on foreign affiliates of U.S. Reporters that are banks, bank holding companies, or financial holding companies would be collected on the same survey forms as data on other foreign affiliates. All U.S. Reporters would report data on all domestic operations, on a fully consolidated basis, on Form BE-11A, Report for U.S. Reporter. Also, under the proposed rule, U.S. Reporters with total assets, sales or gross operating revenues, or net incomes less than or equal to $300 million would be required to report only certain items on Form BE-11A. This reporting threshold is an increase from the previous threshold of $225 million.

Additionally, BEA proposes to require U.S. Reporters to file reports annually for foreign affiliates in which they own a 10 to 20 percent voting interest. These affiliates, some of which are very large, fall under both U.S. and international definitions for foreign direct investment and must be represented in the statistics, but in the past they have been required to be reported in the annual survey only in the third year following a benchmark survey. Annual reporting will ensure that the activities of these affiliates are accurately reflected in the statistics derived from the survey.

As the survey is proposed, the four foreign affiliate forms are—

(a) Form BE-11B—Report for majority-owned foreign affiliates with total assets, sales or gross operating revenues, or net income greater than $60 million, positive or negative; filing of additional items would be required for affiliates with assets, sales, or net income greater than $300 million, positive or negative. (For 2008, this threshold was $250 million.) Form BE-11B would replace 2008 annual survey Forms BE-11B(LF) long form, BE-11B(SF) short form, and BE-11B(FN) for reporting majority-owned foreign affiliates. The proposed reporting threshold on the 2010 BE-11B form is $60 million, unchanged from that for reporting the smallest foreign affiliates on the 2008 BE-11B forms;

(b) Form BE-11C—Report for minority-owned foreign affiliates with total assets, sales or gross operating revenues, or net income greater than $60 million, positive or negative. This threshold is unchanged from that on the 2008 BE-11C form;

(c) Form BE-11D—Schedule for foreign affiliates established or acquired by the U.S. Reporter during the current reporting year with total assets, sales or gross operating revenues, or net income greater than $25 million, positive or negative, but for which no one of these items is greater than $60 million, positive or negative. Form BE-11D would replace the 2008 BE-11A Supplement A schedule for reporting newly established or acquired foreign affiliates. The reporting threshold would increase from $10 million to $25 million; and

(d) Form BE-11E—Report for foreign affiliates selected by BEA to be reported on this form in lieu of Form BE-11B. Form BE-11E would replace 2008 Form BE-11B(EZ). BEA would statistically divide into panels, affiliates with total assets, sales or gross operating revenues, and net income (positive or negative) between $60 million and $300 million. At the direction of BEA, U.S. Reporters would alternate reporting these affiliates on Form BE-11B and Form BE-11E.

A Form BE-11B, BE-11C, or BE-11E must be filed for a foreign affiliate of the U.S. Reporter that owns another non-exempt foreign affiliate even if the foreign affiliate parent is otherwise exempt. That is, all affiliates upward in the chain of ownership must be reported.

In addition to the changes in the reporting criteria, BEA proposes adding, combining, or deleting some items on the annual survey forms. Specifically, BEA proposes to no longer collect selected balance sheet items—cash, other current assets, other noncurrent assets, other current liabilities and long-term debt, and other noncurrent liabilities—as separate items. BEA also proposes to discontinue collecting a breakdown of the number of employees and amount of employee compensation by occupational classification; the composition of external finances; and wholesale and retail trade items (specifically, the cost of goods purchased for resale and inventory of goods purchased for resale).

BEA also proposes to add several items. First, BEA proposes to add an item on Form BE-11C to collect total liabilities. This information will enable BEA to calculate equity positions in minority-owned affiliates. BEA proposes to add an item on Form BE-11E to collect property, plant, and equipment expenditures, which is one of three key indicators that BEA publishes in its advance summary estimates of operations of U.S. multinational companies. BEA also proposes to add a schedule on Form BE-11B to collect a list of foreign affiliates in which the affiliate being reported has a direct equity interest, but which are not fully consolidated into the reported foreign affiliate. Completion of this list would be required only for foreign affiliates with total assets, sales or gross operating revenues, or net income greater than $300 million at the end of, or for, the fiscal year. Previously this schedule has been collected only once every five years on the BE-10 benchmark survey. However, ownership structures of multinational companies change frequently, and more frequent data collection is required to track them accurately.

The proposed changes to the BE-11A, U.S. Reporter annual survey form, largely parallel the above-described changes to the foreign affiliate forms. For the BE-11A, BEA proposes to no longer collect the breakdown of number of employees and amount of employee compensation by occupational classification and to no longer collect wholesale and retail trade items (specifically, the cost of goods purchased for resale and inventory of goods purchased for resale). BEA also proposes to add a question to Form BE-11A that was introduced in the most recent BE-10 benchmark survey, asking if the Reporter is a bank. In addition, BEA proposes to add questions to the form to collect information on assets, liabilities, and interest receipts and payments that are related to banking activities.

Survey Background

The BEA conducts the BE-11 survey under the authority of the International Investment and Trade in Services Survey Act (22 U.S.C. 3101-3108), hereinafter, “the Act.” Section 4(a) of the Act (22 U.S.C. 3103(a)) requires that, with respect to United States direct investment abroad, the President shall, to the extent he deems necessary and feasible, conduct a regular data collection program to secure current information on international capital flows and other information related to international investment and trade in services, including (but not limited to) such information as may be necessary for computing and analyzing the United States' balance of payments, the employment and taxes of United States parents and affiliates, and the international investment and trade in services position of the United States.

Executive Order 12866

This proposed rule has been determined to be not significant for purposes of E.O. 12866.

Executive Order 13132

This proposed rule does not contain policies with Federalism implications sufficient to warrant preparation of a Federalism assessment under E.O. 13132.

Paperwork Reduction Act

This proposed rule contains a collection-of-information requirement subject to review and approval by OMB under the PRA. The requirement will be submitted to OMB for approval as a revision to a collection currently approved under OMB control number 0608-0053.

Notwithstanding any other provisions of the law, no person is required to respond to, nor shall any person be subject to a penalty for failure to comply with, a collection-of-information subject to the requirements of the PRA unless that collection displays a currently valid OMB control number.

The BE-11 survey, as proposed, is expected to result in the filing of reports from approximately 1,750 respondents, which is an increase from the 1,550 respondents that were required to file reports for the 2008 BE-11 annual survey. The respondent burden for this collection of information will vary from one company to another, but is estimated to average 86 hours per response, including time for reviewing instructions, searching existing data sources, gathering and maintaining the data needed, and completing and reviewing the collection of information. The total respondent burden of the proposed survey is estimated at 150,550 hours, which is a decrease from the 153,800 hours estimated for the 2008 BE-11 annual survey. The decrease in overall burden is due to a decrease in the estimated average hours per response that resulted from the proposed changes in reporting requirements.

Comments are requested concerning: (a) Whether the proposed collection of information is necessary for the proper performance of the functions of the agency, including whether the information will have practical utility; (b) the accuracy of the burden estimate; (c) ways to enhance the quality, utility, and clarity of the information collected; and (d) ways to minimize the burden of the collection of information on the respondents, including the use of automated collection techniques or other forms of information technology.

Written comments regarding the burden-hour estimates or other aspects of the collection of information requirements contained in the proposed rule should be sent to both BEA and OMB following the instructions given in the ADDRESSES section above.

Regulatory Flexibility Act

The Chief Counsel for Regulation, Department of Commerce, has certified to the Chief Counsel for Advocacy, Small Business Administration (SBA), under the provisions of the Regulatory Flexibility Act, 5 U.S.C. 605(b), that this proposed rulemaking, if adopted, will not have a significant economic impact on a substantial number of small entities. U.S. companies that have direct investments abroad tend to be quite large, and few small U.S. businesses are subject to the reporting requirements of this survey. SBA size standards are for the most part expressed in either number of employees or average annual receipts. SBA has established two widely used size standards—500 employees for most manufacturing and mining industries, and $7 million in average annual receipts (i.e., sales or gross operating revenues) for most nonmanufacturing industries.

BEA estimates that of the 1,750 U.S. parent companies that will be required to respond to the BE-11 annual survey, approximately 200 (or 10%) of them are small businesses as defined by the SBA. The proposed changes in reporting requirements would limit the amount of information that would be reported on Form BE-11A by U.S. Reporters with total assets, sales or gross operating revenues, and net income less than or equal to $300 million (positive or negative). In addition, U.S. businesses that meet the SBA small business standards tend to have few foreign affiliates, and the foreign affiliates that they do own are small. The number of items required to be reported for a foreign affiliate is determined by the size of the affiliate's assets, sales, and net income. The smallest foreign affiliates would be reported on an abbreviated Form BE-11B. The estimated burden hours for a small business is about 10 to 25 hours.

Because a substantial number of small businesses are not impacted by this rule, and because those small businesses that are impacted are subject to only minimal recordkeeping burdens, the Chief Counsel for Regulation certifies that this proposed rule will not have a significant economic impact on a substantial number of small entities.

List of Subjects in 15 CFR Part 806

Economic statistics, Multinational corporations, Penalties, Reporting and recordkeeping requirements, U.S. investment abroad.

J. Steven Landefeld,
Director, Bureau of Economic Analysis.

For the reasons set forth in the preamble, BEA proposes to amend 15 CFR Part 806 as follows:

PART 806—DIRECT INVESTMENT SURVEYS

1. The authority citation for 15 CFR Part 806 continues to read as follows:

Authority: 5 U.S.C. 301; 22 U.S.C. 3101-3108; E.O. 11961 (3 CFR, 1977 Comp., p. 86), as amended by E.O. 12318 (3 CFR, 1981 Comp., p. 173) and E.O. 12518 (3 CFR, 1985 Comp., p. 348).

2. Revise paragraphs (b)(1) and (f)(3) of § 806.14 to read as follows: 806.14 U.S. direct investment abroad.

* * * * *

(b) * * *

(1) The affiliates are in the same BEA 4-digit industry as defined in the Guide to Industry Classifications for International Surveys, 2007; or

* * * * *

(f) * * *

(3) BE-11—Annual Survey of U.S. Direct Investment Abroad: A report, consisting of Form BE-11A and Form(s) BE-11B, BE-11C, BE-11D and/or BE-11E, is required of each U.S. Reporter that, at the end of the Reporter's fiscal year, had a foreign affiliate reportable on Form BE-11B, BE-11C, BE-11D or BE-11E. Forms required and the criteria for reporting on each are as follows:

(i) Form BE-11A (Report for U.S. Reporter) must be filed by each U.S. person having a foreign affiliate reportable on Form BE-11B, BE-11C, BE-11D or BE-11E. If the U.S. Reporter is a corporation, Form BE-11A is required to cover the fully consolidated U.S. domestic business enterprise.

(A) If for a U.S. Reporter any one of the following three items—total assets, sales or gross operating revenues excluding sales taxes, or net income after provision for U.S. income taxes—was greater than $300 million (positive or negative) at the end of, or for, the Reporter's fiscal year, the U.S. Reporter must file a complete Form BE-11A. It must also file a Form BE-11B, BE-11C, BE-11D or BE-11E, as applicable, for each nonexempt foreign affiliate.

(B) If for a U.S. Reporter no one of the three items listed in paragraph (f)(3)(i)(A) of this section was greater than $300 million (positive or negative) at the end of, or for, the Reporter's fiscal year, the U.S. Reporter is required to file on Form BE-11A only items 1 through 26 and Part IV. It must also file a Form BE-11B, BE-11C, BE-11D, or BE-11E as applicable, for each nonexempt foreign affiliate.

(ii) Forms BE-11B, BE-11C, BE-11D, and BE-11E (Report for Foreign Affiliate).

(A) Form BE-11B must be reported for each majority-owned foreign affiliate, whether held directly or indirectly, for which any one of the following three items—total assets, sales or gross operating revenues excluding sales taxes, or net income after provision for foreign income taxes—was greater than $60 million (positive or negative) at the end of, or for, the affiliate's fiscal year, unless the foreign affiliate is selected to be reported on Form BE-11E.

(B) Form BE-11C must be reported for each minority-owned foreign affiliate, whether held directly or indirectly, for which any one of the three items listed in paragraph (f)(3)(ii)(A) of this section was greater than $60 million (positive or negative) at the end of, or for, the affiliate's fiscal year.

(C) Form BE-11D must be reported for majority- or minority-owned foreign affiliates, whether held directly or indirectly, established or acquired during the year for which any one of the three items listed in paragraph (f)(3)(ii)(A) of this section was greater than $25 million (positive or negative), but for which no one of these items was greater than $60 million (positive or negative), at the end of, or for, the affiliate's fiscal year. Form BE-11D is a schedule; a U.S. Reporter would submit one or more pages of the form depending on the number of affiliates that are required to be filed on this form.

(D) Form BE-11E must be reported for each foreign affiliate that is selected by BEA to be reported on this form in lieu of Form BE-11B. BEA statistically divides into panels, affiliates for which any one of the three items listed in paragraph (f)(3)(ii)(A) of this section was greater than $60 million (positive or negative), but for which no one of these items was greater than $300 million (positive or negative), at the end of, or for, the affiliate's fiscal year. At the direction of BEA, U.S. Reporters would alternate reporting these affiliates on Form BE-11B and Form BE-11E.

(iii) Based on the preceding, an affiliate is exempt from being reported if none of the three items listed in paragraph (f)(3)(ii)(A) of this section exceeds $60 million (positive or negative). However, affiliates that were established or acquired during the year and for which at least one of the items was greater than $25 million but not over $60 million must be listed, and key items reported, on schedule-type form BE-11D.

(iv) Notwithstanding paragraph (f)(3)(iii) of this section, a Form BE-11B, BE-11C, or BE-11E must be filed for a foreign affiliate of the U.S. Reporter that owns another non-exempt foreign affiliate of that U.S. Reporter, even if the foreign affiliate parent is otherwise exempt. That is, all affiliates upward in the chain of ownership must be reported.

* * * * *

[FR Doc. 2010-23428 Filed 9-17-10; 8:45 am]

BILLING CODE 3510-06-P